DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses are canceled with prejudice.

Name | License # | Issuing port
Virginia A. Miller | 05283 | Houston
Star Customs Brokers, Inc. | 13621 | San Francisco
Transport Specialists | 20191 | Washington, D.C.
Clasquin Laperriere Inc. | 20088 | Atlanta

Dated: April 26, 2004.
Jayson P. Ahern,
Assistant Commissioner, Office of Field Operations.

[FR Doc. 04-10061 Filed 5-3-04; 8:45 am]

BILLING CODE 4820-02-P